DEPARTMENT OF HOMELAND SECURITY

Federal Emergency Management Agency

Agency Information Collection Activities: Proposed Collection; Comment Request

AGENCY: Federal Emergency Management Agency, DHS.

ACTION: Notice; 60-day notice and request for comments; Extension of a currently approved collection, OMB Number 1660-0061, No Forms.

SUMMARY: The Federal Emergency Management Agency (FEMA), as part of its continuing effort to reduce paperwork and respondent burden, invites the general public and other Federal agencies to take this opportunity to comment on a continuing information collection. In accordance with the Paperwork Reduction Act of 1995, this notice seeks comments concerning the need to continue collecting information from individuals and States in order to provide and/or administer disaster assistance through the Federal Assistance to Individuals and Households Program (IHP).

SUPPLEMENTARY INFORMATION: Section 206(a) of the Disaster Mitigation Act of 2000 (DMA 2000) (Public Law 106-390) consolidated the “Temporary Housing Assistance” and the “Individual and Family Grant Programs” into a single program called “Federal Assistance to Individuals and Households” (IHP) at section 408 of the Robert T. Stafford Disaster Relief and Emergency Assistance Act (Pub. L. 93-288, as amended). To implement this consolidation, which is intended to streamline the provision of assistance to disaster victims, FEMA published an interim final rule (67 FR 61446) which became effective on September 30, 2002. Pursuant to this rule applicants are able to request approval of late registrations, request continued assistance, and appeal program decisions. Similarly, States can partner with FEMA for delivery of disaster assistance under the “Other Needs” provision of the IHP through Administrative Option Agreements and Administration Plans addressing the level of managerial and resource support necessary.

Collection of Information

Title: Federal Assistance to Individuals and Households Program (IHP).

Type of Information Collection: Extension of a currently approved collection.

OMB Number: 1660-0061.

Form Numbers: No Forms.

Abstract: The Federal Assistance to Individuals and Households Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: Individuals and Households; State, Local or Tribal Governments.

Estimated Total Annual Burden Hours: 29,716 hours.

Annual Burden Hours
Project/activity (survey, form(s), focus group, etc.) | Number of respondents | Frequency of responses | Burden hours per respondent | Annual responses | Total annual burden hours
| (A) | (B) | (C) | (D)= (A × B) | (C × D)
Individuals: |  |  |  |  |
Request for Approval of Late Registration | 8,000 | 1 | 0.75 | 8,000 | 6,000
Request for Continued Assistance | 2,000 | 1 | 0.5 | 2,000 | 1,000
Appeal of Program Decision (to include review and use of supplemental guidance | 30,000 | 1 | 0.75 | 30,000 | 22,500
States: |  |  |  |  |
Review of Administrative Option Agreement for the Other Needs provision of IHP | 56 | 1 | 3 | 56 | 168
Development of State Administrative Plan for the Other Needs provision of IHP | 16 |  | 3 | 16 | 48
Total |  |  |  | 40,072 | 29,716

Estimated Cost: The estimated annualized cost to respondents based on wage rate categories is $173,354. The estimated annual cost to the Federal Government is $855,971.

Comments: Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before June 27, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Lumumba Yancey, Program Analyst, (202) 212-1133 for additional information. You may contact the Records Management Division for copies of the proposed collection of information at facsimile number (202) 646-3347 or e-mail address: FEMA-Information-Collections@dhs.gov.

Dated: April 21, 2008.
John A. Sharetts-Sullivan,
Director, Records Management Division, Office of Management, Federal Emergency Management Agency, Department of Homeland Security.

[FR Doc. E8-9208 Filed 4-25-08; 8:45 am]

BILLING CODE 9110-10-P